DEPARTMENT OF COMMERCE

National Oceanic and Atmospheric Administration

RIN 0648-XG214

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold a meeting of its Hawaii Archipelago Fishery Ecosystem Plan (FEP), American Samoa Archipelago FEP, and Mariana Archipelago FEP Advisory Panels (AP) to discuss and make recommendations on fishery management issues in the Western Pacific Region.

DATES: All APs will meet on Thursday, May 24, 2018, with the Hawaii Archipelago AP meeting from 9 a.m. to 11 a.m.; The American Samoa Archipelago FEP AP from 4:30 p.m. to 6:30 p.m.; The Guam Mariana Archipelago FEP AP meeting from 6 p.m. to 7:30 p.m.; and the Commonwealth of the Northern Mariana Islands (CNMI) Mariana Archipelago FEP AP meeting from 6 p.m. to 8 p.m. All times listed are local island times. For specific times and agendas, see SUPPLEMENTARY INFORMATION.

ADDRESSES: The Hawaii Archipelago FEP AP will meet at the Council Office, 1164 Bishop St., Suite 1400, Honolulu, HI 96813 and by teleconference. The teleconference will be conducted by telephone. The teleconference numbers are: U.S. toll-free: 1-888-482-3560 or International Access: +1 647 723-3959, and Access Code: 5228220; The American Samoa Archipelago FEP AP will meet at the Pacific Petroleum Conference Room, Utulei Village, American Samoa, 96799; The Guam Mariana Archipelago FEP AP will meet at the Guam Fishermen's Cooperative Association Lanai, Hagatna, Guam, 96913; and The CNMI Mariana Archipelago FEP AP will meet at the Micronesian Environmental Services Conference Room, Garapan, Saipan, CNMI, 96950.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the Hawaii Archipelago FEP AP Meeting

Thursday, May 24, 2018, 9 a.m.-11 a.m.

1. Welcome and Introductions

2. Report on Previous AP Recommendations

3. Council Issues

A. Action Items

i. Main Hawaiian Islands Bottomfish Annual Catch Limits (ACLs)

ii. Options for an Aquaculture Management Program

iii. Hawaii Longline Shallow-set Fishery Hard Cap Options

iv. Framework for Managing Sea Turtle Interactions in the Hawaii Shallow-set Longline Fishery

v. Ecosystem Component Species Classification

vi. Evaluation of 2017 Catch to the 2017 ACLs

B. Other Items

i. Draft 2017 Annual Stock Assessment and Fishery Evaluation (SAFE) Reports

ii. Comments on List of Gears by Fisheries

iii. Council Research Priorities

a. Five-year Research Plan

b. Cooperative Research

c. Pelagic Fisheries Research Plan

d. Management Strategy Evaluation (MSE) Priorities

4. Hawaii FEP AP Issues

A. Report of the Subpanels

i. Island Fisheries Subpanel

ii. Pelagic Fisheries Subpanel

iii. Ecosystems and Habitat Subpanel

iv. Indigenous Fishing Rights Subpanel

B. Other Issues

5. Public Comment

6. Discussion and Recommendations

7. Other Business

Schedule and Agenda for the American Samoa Archipelago FEP AP Meeting

Thursday, May 24, 2018, 4:30 p.m.-6:30 p.m.

1. Welcome and Introductions

2. Report on Previous AP Recommendations

3. Council Issues

A. Action Items

i. American Samoa Marine Conservation Plan

ii. Options for an Aquaculture Management Program

iii. American Samoa Large Vessel Prohibited Area

iv. Modification to U.S. Participating Territory Catch and Effort Limit Amendment 7 Framework

v. Ecosystem Component Species Classification

vi. Evaluation of 2017 Catch to the 2017 ACLs

B. Other Items

i. Draft 2017 Annual SAFE Reports

ii. Comments on List of Gears by Fisheries

iii. Council Research Priorities

a. Five-year Research Plan

b. Cooperative Research

c. Pelagic Fisheries Research Plan

d. MSE Priorities

4. American Samoa FEP AP Issues

A. Report of the Subpanels

i. Island Fisheries Subpanel

ii. Pelagic Fisheries Subpanel

iii. Ecosystems and Habitat Subpanel

iv. Indigenous Fishing Rights Subpanel

B. Other Issues

5. Public Comment

6. Discussion and Recommendations

7. Other Business

Schedule and Agenda for the Guam Mariana Archipelago FEP AP Meeting

Thursday, May 24, 2018, 6 p.m.-7:30 p.m.

1. Welcome and Introductions

2. Report on Previous AP Recommendations

3. Council Issues

A. Action Items

i. Modification to U.S. Participating Territory Catch and Effort Limit Amendment 7 Framework

ii. Options for an Aquaculture Management Program

iii. Ecosystem Component Species Classification

iv. Evaluation of 2017 Catch to the 2017 ACLs

B. Other Items

i. Draft 2017 Annual SAFE Reports

ii. Comments on List of Gears by Fisheries

iii. Council Research Priorities

a. Five-year Research Plan

b. Cooperative Research

c. Pelagic Fisheries Research Plan

d. MSE Priorities

4. Guam Mariana FEP AP Issues

A. Report of the Subpanels

i. Island Fisheries Subpanel

ii. Pelagic Fisheries Subpanel

iii. Ecosystems and Habitat Subpanel

iv. Indigenous Fishing Rights Subpanel

B. Other Issues

5. Public Comment

6. Discussion and Recommendations

7. Other Business

Schedule and Agenda for the CNMI Mariana Archipelago FEP AP Meeting

Thursday, May 24, 2018, 6 p.m.-8 p.m.

1. Welcome and Introductions

2. Report on Previous AP Recommendations

3. Council Issues

A. Action Items

i. Modification to U.S. Participating Territory Catch and Effort Limit Amendment 7 Framework

ii. Options for an Aquaculture Management Program

iii. Ecosystem Component Species Classification

iv. Evaluation of 2017 Catch to the 2017 ACLs

B. Other Items

i. Draft 2017 Annual SAFE Reports

ii. Comments on List of Gears by Fisheries

iii. Council Research Priorities

a. Five-year Research Plan

b. Cooperative Research

c. Pelagic Fisheries Research Plan

d. MSE Priorities

4. CNMI Mariana FEP AP Issues

A. Report of the Subpanels

i. Island Fisheries Subpanel

ii. Pelagic Fisheries Subpanel

iii. Ecosystems and Habitat Subpanel

iv. Indigenous Fishing Rights Subpanel

B. Other Issues

5. Public Comment

6. Discussion and Recommendations

7. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 3, 2018.
Tracey L. Thompson,
Acting Deputy Director, Office of Sustainable Fisheries, National Marine Fisheries Service.

[FR Doc. 2018-09797 Filed 5-7-18; 8:45 am]

BILLING CODE 3510-22-P